DEPARTMENT OF THE TREASURY

Internal Revenue Service

26 CFR Part 1

[TD 9598]

RIN 1545-BK98

Integrated Hedging Transactions of Qualifying Debt

Correction

In rule document 2012-21986 appearing on pages 54808-54811 in the issue of Thursday, September 6, 2012 make the following correction:

On page 54811, in the first column, on the eleventh line from the bottom of the page, “(i) Expiration date. This section expires on September 4, 2012”, should read “(i) Expiration date. This section expires on September 4, 2015.”

[FR Doc. C1-2012-21986 Filed 9-14-12; 8:45 am]

BILLING CODE 1505-01-D